DEPARTMENT OF LABOR

Office of the Secretary

Submission for OMB Review: Comment Request

May 15, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Employment Standards Administration (ESA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Records to be kept by Employers—FLSA.

OMB Number: 1215-0017.

Form Number: N/A.

Frequency: On occasion.

Type of Response: Recordkeeping.

Affected Public: Private sector: Business or other for-profits, Farms, Not-for-profit institutions; Individuals or households; and State, Local, or Tribal government.

Estimated Number of Respondents: 5,800,000.

Estimated Number of Annual Responses: 41,442,427.

Estimated Average Response Time: Varies.

Estimated Total Annual Burden Hours: 1,023,678.

Total Estimated Annualized capital/startup costs: $0.

Total Estimated Annual Costs (operating/maintaining systems or purchasing services): $0.

Description: The Department uses this information to determine whether covered employers have complied with various the Fair Labor Standards Act (FLSA), 29 U.S.C. § 201, et seq. Employers use the records to document FLSA compliance, including showing qualification for various FLSA exemptions.

Agency: Employment Standards Administration.

Type of Review: Extension without change of currently approved collection.

Title: Motor Vehicle Safety for Transportation of Migrant and Seasonal Agricultural Workers

OMB Number: 1215-0036.

Form Numbers: WH-514, WH-514A, and WH-515.

Frequency: On occasion.

Type of Response: Reporting and Recordkeeping.

Affected Public: Business and other for-profit and Federal Government.

Estimated Number of Respondents: 300.

Estimated Number of Annual Responses: 3,900.

Estimated Average Response Time: 5 minutes for the Forms WH-514, WH-514A, and WH-515 and approximately 20 minutes for physical examination by a physician.

Estimated Total Annual Burden Hours: 885.

Total Annualized capital/startup costs: $0.

Total Annual Costs (operating/maintaining systems or purchasing services): $215,100.

Description: Migrant and Seasonal Agricultural Worker Protection Act (MSPA) section 401 (29 U.S.C. 1841) requires, subject to certain exceptions, all Farm Labor Contractors (FLCs), Agricultural Employers (AGERs), and Agricultural Associations (AGASs) to ensure that any vehicle they use or cause to be used to transport or drive any migrant or seasonal agricultural worker conforms to safety and health standards prescribed by the Secretary of Labor under the MSPA and with other applicable Federal and State safety and health standards. These MSPA safety standards address the vehicle, driver, and insurance.

Consistent with MSPA subsections 401(b)(2)(C)-(D), the U.S. Department of Labor (DOL), Wage and Hour Division (WHD), has issued regulations setting forth the vehicle safety standards that must be met to ensure the safe transportation of migrant/seasonal agricultural workers. See 29 U.S.C. 1841(b)(2)(C)-(D); 29 CFR 500.100-102, 104-105. These regulations (1) issue unique DOL standards for certain types of transportation and (2) adopt U.S. Department of Transportation (DOT) standards for other types of transportation, without regard to the mileage or boundary limitations found at 49 U.S.C. § 31502(c). The regulations require FLCs to submit a mechanical inspection report and a doctor's certificate when they seek authorization to transport migrant/seasonal agricultural workers. 29 CFR 500.45(b). The regulations also require FLCs, AGERs, AGASs, and Farm Labor Contractor Employees (FLCEs) who drive vehicles transporting migrant/seasonal agricultural workers to maintain a copy of the doctor's certificate. 29 CFR 500.105(1)(H)-(I).

The WHD has created Forms WH-514, WH-514a, and WH-515, which allow FLC applicants to verify to the WHD that the vehicles used to transport migrant/seasonal agricultural workers meet the MSPA vehicle safety standards and that anyone who drives such workers meets the Act's minimum physical requirements. The WHD uses the information in deciding whether to authorize the FLC/FLCE applicant to transport/drive any migrant/seasonal agricultural workers or to cause such transportation.

Agency: Employment Standards Administration.

Type of Review: Extension without change of currently approved collection.

Title: Medical Travel Refund Request.

OMB Number: 1215-0054.

Form Numbers: OWCP-957.

Frequency: On occasion.

Type of Response: Reporting.

Affected Public: Individuals and households.

Estimated Number of Respondents: 163,236.

Estimated Number of Annual Responses: 163,236.

Estimated Average Response Time: 10 minutes.

Estimated Total Annual Burden Hours: 27,097.

Total Annualized capital/startup costs: $0.

Total Annual Costs (operating/maintaining systems or purchasing services): $68,559.

Description: The Office of Workers' Compensation Programs (OWCP) is the agency responsible for administration of the Federal Employees' Compensation Act (FECA), 5 U.S.C. 8101 et seq., the Black Lung Benefits Act (BLBA), 30 U.S.C. 901 et seq., and the Energy Employees Occupational Illness Compensation Program Act of 2000 (EEOICPA), 42 U.S.C. 7384 et seq. All three of these statutes require that OWCP reimburse beneficiaries for travel expenses for covered medical treatment. In order to determine whether amounts requested as travel expenses are appropriate, OWCP must receive certain data elements, including the signature of the physician for medical expenses claimed under the BLBA. Form OWCP-957 is the standard format for the collection of these data elements. The regulations implementing these three statutes allow for the collection of information needed to enable OWCP to determine if reimbursement requests for travel expenses should be paid. (20 CFR 10.315, 30.404, 725.406 and 725.701).

Form OWCP-957 is used by OWCP and contractor bill processing staff to process reimbursement requests for travel expenses. To enable OWCP and its contractor bill processing staff to consider the appropriateness of the request in a timely fashion, it is essential that request include all of the data elements needed to evaluate the request. If all the data elements required by OWCP are not collected, the contractor staff cannot process the request for reimbursement.

Agency: Employment Standards Administration.

Type of Review: Extension without change of currently approved collection.

Title: Claim for Reimbursement of Benefit Payments and Claims Expense Under the War Hazards Compensation Act.

OMB Number: 1215-0202.

Form Numbers: CA-278.

Frequency: On occasion.

Type of Response: Reporting.

Affected Public: Private Sector: Business or other for-profit.

Estimated Number of Respondents: 7.

Estimated Number of Annual Responses: 140.

Estimated Average Response Time: 30 minutes.

Estimated Total Annual Burden Hours: 70.

Total Annualized capital/startup costs: $0.

Total Annual Costs (operating/maintaining systems or purchasing services): $239.

Description: The Office of Workers' Compensation Programs (OWCP) is the federal agency responsible for administration of the War Hazards Compensation Act (WHCA), 42 U.S.C. 1701 et seq. Under section 1704(a) of the WHCA, an insurance carrier or self-insured who has paid workers' compensation benefits to or on account of any person for a war-risk hazard may seek reimbursement for benefits paid (plus expenses) out of the Employees Compensation Fund for the Federal Employees' Compensation Act (FECA) at 5 U.S.C. 8147.

Form CA 278 is used by insurance carriers and the self-insured to request reimbursement. The regulations that implement the WHCA permit OWCP to collect the information needed to consider an insurance carrier's or self-insured's reimbursement request at 20 CFR 61.101 and 61.104.

The information collected is used by OWCP staff to process requests for reimbursement of WHCA benefit payments and claims expenses submitted by insurance carriers and self-insureds. The information is also used by OWCP to decide whether it should opt to pay ongoing WHCA benefits directly to the injured worker.

Agency: Employment Standards Administration.

Type of Review: Extension without change of currently approved collection.

Title: Securing Financial Obligations Under the Longshore and Harbor Workers' Compensation Act and its Extensions.

OMB Number: 1215-0204.

Form Numbers: LS-275-IC, LS-275-SI, and LS-276.

Frequency: On occasion and Annually.

Type of Response: Reporting.

Affected Public: Private Sector: Business or other for-profit and Not-for-profit institutions.

Estimated Number of Respondents: 646.

Estimated Number of Annual Responses: 646.

Estimated Average Response Time: 1 hour for the Form LS-276 and 15 minutes for the Forms LS-275IC and LS-275SI.

Estimated Total Annual Burden Hours: 434.

Total Annualized capital/startup costs: $0.

Total Annual Costs (operating/maintaining systems or purchasing services): $288.

Description: The Longshore and Harbor Workers' Compensation Act requires covered employers to secure the payment of compensation under the Act and its extensions by purchasing insurance from a carrier authorized by the Secretary of Labor to write Longshore Act insurance, or by becoming authorized self-insured employers (33 U.S.C. 932). Each authorized insurance carrier (or carrier seeking authorization) is required to establish annually that its Longshore Act obligations are fully secured either through an applicable state guaranty (or analogous) fund, a deposit of security with the Division of Longshore and Harbor Workers' Compensation (DLHWC), or a combination of both. Similarly, each authorized self-insurer (or employer seeking authorization) is required to fully secure its Longshore Act obligations by depositing security with DLHWC. These requirements are designed to assure the prompt and continued payment of compensation and other benefits by the responsible carrier or self-insurer to injured workers and their survivors.

Forms collect information used for determining appropriate security deposit amounts and insuring compliance with the security deposit requirements are described below.

LS-276, Application for Security Deposit Determination. Each currently authorized carrier and any carrier seeking such authorization must apply annually for a determination of the amount of security it must deposit with DLHWC by completing Form LS-276. DLHWC will use the information collected on Form LS-276 to determine the required security deposit amount for each carrier in light of the applicable state guaranty fund coverage. Regulations establishing this requirement are set forth at 20 CFR 703.2, 703.203, 703.209, 703.210, and 703.212.

LS-275 IC, Agreement and Undertaking (Insurance Carrier); LS-275 SI, Agreement and Undertaking (Self-Insured Employer). After DLHWC determines the amount of the required security deposit, the insurance carrier or self-insured employer executes Form LS-275 IC or LS-275 SI, respectively, to: (1) Report the security it has deposited and grant the Department a security interest in the collateral; (2) agree to abide by the Department's rules; and (3) authorize the Department to bring suit on any deposited indemnity bond, draw upon any deposited letters of credit, or to collect the interest and principal or sell any deposited negotiable securities when it deems it necessary to assure the carrier's or self-insurer's prompt payment of compensation and any other Longshore Act obligations it has. DLHWC reviews the information collected and verifies that the carrier or self-insurer has deposited the correct amount of security. DLHWC uses this information if it takes action on the security deposited to assure that the carrier or self-insurer meets its Longshore Act obligations. Regulations establishing these requirements are set forth at 20 CFR 703.2, 703.204, 703.205, 703.303 and 703.304.

Darrin A. King,
Acting Departmental Clearance Officer.

[FR Doc. E7-9694 Filed 5-18-07; 8:45 am]

BILLING CODE 4510-CF-P